ENVIRONMENTAL PROTECTION AGENCY

[EPA-HQ-OPPT-2007-0984; FRL-8151-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from August 3, 2007 to September 7, 2007, consists of the PMNs and TMEs, both pending or expired, and the notices of commencement to manufacture a new chemical that the Agency has received under TSCA section 5 during this time period.

DATES: Comments identified by the specific PMN number or TME number, must be received on or before November 2, 2007.

ADDRESSES: Submit your comments, identified by docket identification (ID) number EPA-HQ-OPPT-2007-0984, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2007-0984. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2007-0984. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket's index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone numberof the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from August 3, 2007 to September 7, 2007, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 74 Premanufacture Notices Received From: 08/03/07 to 09/07/07
Case No. | Received Date | Projected Notice End Date | Manufacturer/Importer | Use | Chemical
P-07-0602 | 08/03/07 | 10/31/07 | CBI | (S) Chemical intermediate | (G) 1-alkene, 10,10-diethoxy-
P-07-0603 | 08/03/07 | 10/31/07 | CBI | (G) A component of adhesives | (G) Reaction product of 2-propenoic acid, 2-methyl-, monoester and a proprietary isocyanate
P-07-0604 | 08/03/07 | 10/31/07 | CIBA Specialty Chemicals Corporation | (S) Ultra violet curing agent in surface modifier (for plastics) | (G) Poly(oxy-1,2-alkyl),.alpha.-hydro-.omega.-hydroxy-,.alpha.-oxoarylacetate
P-07-0607 | 08/07/07 | 11/04/07 | Hybrid Plastics, Inc. | (S) Flame retardant for thermoplastic resins | (S) 1,2-ethanediamine, N1-[3-[3,5,7,9,11,13,15-heptakis 2methylpropyl),pentacyclo[9.5.1.13,9,15,15.17,13]octasiloxan-1-yl]propyl]-
P-07-0608 | 08/07/07 | 11/04/07 | CBI | (G) Component of industrial use coating | (G) Aliphatic polyurethane acrylate
P-07-0609 | 08/08/07 | 11/05/07 | CBI | (G) Additive for lubricants | (G) Sulfurized fatty acid derivative
P-07-0610 | 08/08/07 | 11/05/07 | CBI | (G) Sealant | (G) Bisurea compound
P-07-0611 | 08/08/07 | 11/05/07 | CBI | (G) Sealant | (G) Bisurea compound
P-07-0612 | 08/08/07 | 11/05/07 | CBI | (G) Sealant | (G) Bisurea compound
P-07-0613 | 08/08/07 | 11/05/07 | CBI | (G) Sealant | (G) Bisurea compound
P-07-0614 | 08/09/07 | 11/06/07 | CBI | (G) Surface treatment for pigments | (G) 2-arylazo-N-aryl-3-oxo-alkylamide
P-07-0615 | 08/09/07 | 11/06/07 | CBI | (G) Component of foam | (G) Fatty acid polymer with aliphatic diol and aromatic diacid
P-07-0616 | 08/09/07 | 11/06/07 | CBI | (G) Component of foam | (G) Fatty acid polymer with aliphatic diol and aromatic diacid
P-07-0617 | 08/10/07 | 11/07/07 | 3M Company | (G) Heat transfer fluid | (G) Hydrofluoroether
P-07-0618 | 08/10/07 | 11/07/07 | 3M Company | (G) Chemical intermediate | (G) Alkyl acid fluoride
P-07-0619 | 08/10/07 | 11/07/07 | CBI | (G) Lubricant additive | (G) Alkanoldioic acid, dialkyl ester
P-07-0620 | 08/10/07 | 11/07/07 | CBI | (G) Lubricant additive | (G) Alkanoldioic acid, dialkyl ester
P-07-0621 | 08/10/07 | 11/07/07 | CBI | (G) Lubricant additive | (G) Alkanoldioic acid, dialkyl ester
P-07-0622 | 08/10/07 | 11/07/07 | CBI | (G) Lubricant additive | (G) Alkanoldioic acid, dialkyl ester
P-07-0623 | 08/13/07 | 11/10/07 | CBI | (G) Filler dispersant | (G) Polyalkoxylate phosphite ester
P-07-0624 | 08/14/07 | 11/11/07 | CBI | (S) Anti-stain in construction | (G) Amino functional silsesquioxanes
P-07-0625 | 08/14/07 | 11/11/07 | CBI | (G) Additive for inks and cleaners | (G) Cyclic amine polymer with epoxides, alkylcarboxy derivs.
P-07-0626 | 08/14/07 | 11/11/07 | CBI | (G) Toner additive | (G) Methyl trialkyl ammonium chloride, reaction products with silicic acid, lithium, magnesium and sodium salt
P-07-0627 | 08/14/07 | 11/11/07 | CBI | (S) Acrylic polymer used in the manufacture of adhesive tapes | (G) Acrylic polymer
P-07-0628 | 08/14/07 | 11/11/07 | CBI | (G) Non-dispersive use | (G) Blocked aromatic isocyanate
P-07-0629 | 08/14/07 | 11/11/07 | Croda Inc. | (G) Polymer additive | (G) Polyethylene glycol dierucate
P-07-0630 | 08/15/07 | 11/12/07 | CBI | (G) Additive, open, non-dispersive use | (G) Polyester polyether urethane block copolymer
P-07-0631 | 08/15/07 | 11/12/07 | CBI | (G) Additive, open, non-dispersive use | (G) Polyester polyether urethane block copolymer
P-07-0632 | 08/15/07 | 11/12/07 | CBI | (G) Additive, open, non-dispersive use | (G) Polyester polyether urethane block copolymer
P-07-0633 | 08/15/07 | 11/12/07 | Angus Chemical Company, a subsidiary of the Dow Chemical Company | (S) Intermediate chemical | (G) Nitroalcohol derivative
P-07-0634 | 08/15/07 | 11/12/07 | Angus chemical Company, a subsidiary of the Dow Chemical Company | (S) Metal working fluid additive | (G) Alkanolamine derivative
P-07-0635 | 08/16/07 | 11/13/07 | CBI | (G) Coating component | (G) Styrene, polymer with methacrylate ester, alkene, and substituted trialkoxysilane
P-07-0636 | 08/17/07 | 11/14/07 | CBI | (G) Chemical intermediate / catalyst | (G) Aluminum mixed metal and diol complex
P-07-0637 | 08/17/07 | 11/14/07 | CBI | (G) Chemical intermediate / catalyst | (G) Aluminum mixed metal and mixed diol complex
P-07-0638 | 08/16/07 | 11/13/07 | Chemtek, Inc. | (S) Concrete cleaner component | (G) Alkylphosphonic acid mixture, lithium salt
P-07-0639 | 08/20/07 | 11/17/07 | CBI | (S) Gas hydration inhibitor | (G) Ether carboxylic acid amide
P-07-0640 | 08/20/07 | 11/17/07 | Forbo Adhesives, LLC | (G) Hot melt polyurethane adhesive | (G) Isocyanate functional polyester polyether urethane polymer
P-07-0641 | 08/21/07 | 11/18/07 | Spectra Colors Corp. | (G) Dye for washable ink systems | (G) Ethoxylated triphenylmethane
P-07-0642 | 08/17/07 | 11/14/07 | CBI | (G) Cleaning and polishing chemical for semiconductor manufacturing | (G) Polystyrene derivative
P-07-0643 | 08/22/07 | 11/19/07 | DIC International (USA), LLC. | (G) Acrylic resin for coatings | (G) Hydroxyalkyl methacrylate, polymer with branched benzene, alkyl alkenoate and alkyl fumarate
P-07-0644 | 08/16/07 | 11/13/07 | Chemtek, Inc. | (S) Concrete cleaner component | (G) Alcohol, ethoxylated, phosphated, lithium salt
P-07-0645 | 08/22/07 | 11/19/07 | DIC International (USA), LLC. | (G) Acrylic resin for coatings | (G) Hydroxyalkyl methacrylate, polymer with branched benzene, alkyl (c=1-6) methacrylate, alkyl acrylate and alkenoic acid
P-07-0646 | 08/23/07 | 11/20/07 | Firmenich Inc. | (G) Chemical intermediate | (S) Dodecane, 1,1,3-triethoxy-
P-07-0647 | 08/23/07 | 11/20/07 | Firmenich Inc | (G) Chemical intermediate | (S) Decane, 1,1-diethoxy-
P-07-0648 | 08/22/07 | 11/19/07 | Incorez Corporation | (S) Amine hardener used in the formulation of epoxy based paints and coatings | (G) Polyamnine hardner
P-07-0649 | 08/22/07 | 11/19/07 | CBI | (G) Coating (surface treatment) | (G) Urethane resin
P-07-0650 | 08/24/07 | 11/21/07 | CBI | (G) Paper product additive | (G) Glyoxalated acrylamide, dadmac, 2-hydroxyethylacrylate ternary copolymer with amine-amide adduct
P-07-0651 | 08/24/07 | 11/21/07 | CBI | (G) Crosslinker for polyacrylamides; additive for resins | (G) Amine-amide adduct
P-07-0652 | 08/24/07 | 11/21/07 | Bio-based Technologies, LLC | (G) Plastics | (S) Soybean oil, reaction products with diethanolamine and ethaneperoxoic acid
P-07-0653 | 08/24/07 | 11/21/07 | CBI | (S) Flame retardant for plastics (eg. polyurethane) | (G) Ethoxylated methylphosphonic acid
P-07-0654 | 08/07/07 | 11/04/07 | Cara Plastics Inc | (S) Composite resins crosslinker | (G) Maleinated Acrylated epoxided Soy oil
P-07-0655 | 08/22/07 | 11/19/07 | CBI | (S) Binder for in-mold coatings | (G) Waterborne polyurethane
P-07-0656 | 08/28/07 | 11/25/07 | CBI | (G) Dyestuff | (G) Substituted triazine derivative
P-07-0657 | 08/28/07 | 11/25/07 | CBI | (G) Dyestuff | (G) Substituted benzimidazol sulfonic acid
P-07-0658 | 08/29/07 | 11/26/07 | R. T. Vanderbilt Company, Inc. | (S) Anti-wear and anti-oxidant agent for lubricants | (S) Amine bis(C11-14 branched and linear alkyl), tungstates
P-07-0659 | 08/29/07 | 11/26/07 | CBI | (G) Dyestuff | (G) Substituted triazine derivative
P-07-0660 | 08/29/07 | 11/26/07 | CBI | (G) Dyestuff | (G) Substituted anthraquinone derivative
P-07-0661 | 08/29/07 | 11/26/07 | CBI | (G) Dyestuff | (G) Substituted phthalocyanine
P-07-0662 | 08/29/07 | 11/26/07 | Cytec Industries Inc. | (S) Flow-leveling additive for industrial coatings | (G) Substituted alkenyl-terminated siloxanes and silicones polymers with substituted acrylates, peroxide initiated
P-07-0664 | 09/04/07 | 12/02/07 | CBI | (G) Textile additive and foam additive | (G) Poly(ethylene oxide)
P-07-0665 | 09/04/07 | 12/02/07 | CBI | (G) Textile additive and foam additive | (G) Poly(ethylene oxide)
P-07-0666 | 09/04/07 | 12/02/07 | CBI | (G) Textile additive and foam additive | (G) Poly(ethylene oxide)
P-07-0667 | 09/04/07 | 12/02/07 | CBI | (G) Textile additive and foam additive | (G) Poly(ethylene oxide)
P-07-0668 | 09/04/07 | 12/02/07 | CBI | (G) Textile additive and foam additive | (G) Poly(ethylene oxide)
P-07-0669 | 09/04/07 | 12/02/07 | CBI | (G) Textile additive and foam additive | (G) Poly(ethylene oxide)
P-07-0670 | 09/04/07 | 12/02/07 | CBI | (S) Chemical intermediate | (G) Butanoic acid, (1R)-1-ethenylalkyl ester
P-07-0671 | 09/04/07 | 12/02/07 | CBI | (G) Lamination adhesive | (G) Polyurethane adhesive
P-07-0672 | 09/05/07 | 12/03/07 | CBI | (G) Metal working fluid | (G) Polyethylene glycol ether acid
P-07-0673 | 09/05/07 | 12/03/07 | Mane, USA | (G) Perfumery ingredient | (S) 2(3H)-furanone,5-(6-heptenyl)dihydro-
P-07-0674 | 09/07/07 | 12/05/07 | CBI | (G) Protective coating | (G) Oxirane, substituted siliylmethyl-, hydrolysis products with alkanol zirconium(4+) salt and silica, acetates
P-07-0675 | 09/06/07 | 12/04/07 | CBI | (G) Destructive use (antioxidant) | (G) Phenolic amine
P-07-0676 | 09/06/07 | 12/04/07 | CBI | (G) Destructive use (antioxidant) | (G) Phenolic amine
P-07-0677 | 09/07/07 | 12/05/07 | Itw Devcon Futura Coatings | (S) Chemical intermediate | (G) Aspartic acid, N-alkyl,N-(isocyanatoalkyl)-,alkyl ester
P-07-0678 | 09/06/07 | 12/04/07 | CIBA Specialty Chemicals Corporation | (G) Paper additive | (G) substituted Benzenemethanaminium chloride/acrylamide/acrylic acid/substituted ethanaminium chloride polymer

In Table II of this unit, EPA provides the following information (to the extent that such information is not claimed as CBI) on the TMEs received:

II. 4 Test Marketing Exemption Notices Received From: 8/03/07 to 09/07/07
Case No. | Received Date | Projected Notice End Date | Manufacturer/Importer | Use | Chemical
T-07-0020 | 08/07/07 | 09/20/07 | CBI | (G) Component of industrial use coating | (G) Aliphatic polyurethane acrylate
T-07-0021 | 08/17/07 | 09/30/07 | Forbo Adhesives, LLC | (G) Hot melt polyurethane adhesive | (G) Isocyanate functional polyester polyether urethane polymer
T-07-0022 | 08/10/07 | 09/23/07 | Shell lubricants | (S) Synthesis high melt paraffinwax designed for numerous industrial application | (S) Mixture of hydrocarbons (C20-C110) containing straight and branched chain alkanes produced by synthesis from natural gas (fisher-tropsch)
T-07-0023 | 08/30/07 | 10/13/07 | Cytec Industries Inc. | (S) Flow-leveling additive for industrial coatings | (G) Substituted alkenyl-terminated siloxanes and silicones polymers with substituted acrylates, peroxide initiated

In Table III of this unit, EPA provides the following information (to the extent that such information is not claimed as CBI) on the Notices of Commencement to manufacture received:

III. 49 Notices of Commencement From: 8/03/07 to 09/07/07
Case No. | Received Date | Commencement Notice End Date | Chemical
P-05-0321 | 09/06/07 | 08/15/07 | (G) Mono-methyl maleate/acrylic acid/hydroxypropyl methacrylate copolymer
P-06-0069 | 08/29/07 | 08/17/07 | (G) Dialkyl carbocyclo-, reaction products with alkadiene, by-products from, distant residues
P-06-0166 | 08/06/07 | 07/22/07 | (S) 3h-1,2,4-triazol-3-one, 1,2-dihydro-
P-06-0229 | 08/27/07 | 08/06/07 | (G) Unsaturated aliphatic urethane acrylate
P-06-0334 | 08/09/07 | 07/17/07 | (G) Modified polyurethane
P-06-0343 | 08/29/07 | 08/17/07 | (G) Dialkyl carbocyclo-, reaction products with alkadiene, cyclized, dehydrogenated, isomerized, by-products from, distant residues
P-06-0438 | 08/07/07 | 07/21/07 | (G) Fatty acids, C18-unsaturated, dimers, hydrogenated, polymers with polypropylene glycol diamine, amino acid and polyoxyalkylenepolyamine
P-06-0576 | 08/06/07 | 07/12/07 | (G) Fluoroalkylacrylate copolymer
P-06-0608 | 08/29/07 | 08/06/07 | (G) Alkyl acrylate, polymer with alkyl acrylates, styrene and hydroxyalkyl acrylates, peroxide-initiated
P-06-0677 | 09/05/07 | 08/01/07 | (G) Ethylene interpolymer
P-06-0690 | 08/15/07 | 07/26/07 | (G) Diphenylmethane isocyanate polyester elastomer
P-06-0692 | 08/13/07 | 07/16/07 | (G) Derivatized hydroxylated triglycerides
P-06-0752 | 08/03/07 | 07/27/07 | (G) Modified imidazole
P-06-0815 | 09/04/07 | 08/24/07 | (S) 1,2-ethanediamine, N-[3-(trimethoxysilyl)propyl]-, hydrolysis products with wollastonite (CA(SI03))
P-06-0816 | 08/16/07 | 07/18/07 | (G) Modified reaction products of alkyl alcohol, halogenated alkane, substituted epoxide, and amino compound
P-06-0829 | 08/06/07 | 08/02/07 | (S) Fatty acids, canola-oil, me esters
P-07-0009 | 08/27/07 | 08/07/07 | (G) Aqueous polyurethane dispersion
P-07-0058 | 08/22/07 | 08/13/07 | (S) 3-hexene, 1-(2-butenyloxy)-, (3Z)-
P-07-0087 | 09/04/07 | 08/28/07 | (G) Partially fluorinated condensation polymer
P-07-0097 | 08/09/07 | 06/08/07 | (S) 2-propenoic acid, 2-methyl-, butyl ester, polymer with ethenylbenzene and 2-sulfoethyl 2-methyl-2-propenoate, ammonium salt
P-07-0220 | 08/13/07 | 07/05/07 | (G) Aliphatic polyester- polyether polyurethane resin
P-07-0228 | 08/31/07 | 08/20/07 | (G) Polyether modified polydimethylsiloxane
P-07-0253 | 09/07/07 | 08/14/07 | (G) Polyether-modified siloxane
P-07-0258 | 08/22/07 | 08/03/07 | (G) Acrylic acid polymer with vinylphosphonic acid and ethylene glycol acrylate
P-07-0261 | 08/08/07 | 07/05/07 | (G) Urethane acrylate resin
P-07-0268 | 08/09/07 | 06/08/07 | (G) Substituted benzoxazolium salt
P-07-0283 | 08/22/07 | 08/14/07 | (S) Thiophene, 2,5-dibromo-3-hexyl-
P-07-0286 | 08/23/07 | 07/30/07 | (G) Phenol, 4,4′-(1-methylethylidene)bis[disubstituted-, polymer with disubstituted phenol
P-07-0287 | 08/17/07 | 08/01/07 | (G) Phenol, 4,4′-(1-methylethylidene)bis[disubstituted-, polymer with disubstituted phenol, substituted propenoate
P-07-0301 | 08/16/07 | 07/30/07 | (G) Thioketone
P-07-0329 | 09/07/07 | 08/16/07 | (G) Derivative of 2,4-dihydroxy benzophenone
P-07-0332 | 08/29/07 | 08/10/07 | (G) Alkyloxy carboxylic acid
P-07-0335 | 08/03/07 | 07/27/07 | (G) Epoxy resin
P-07-0337 | 08/16/07 | 08/01/07 | (G) Polyester polyurethane
P-07-0349 | 08/30/07 | 08/23/07 | (G) Fluorinated alkylammonium salt
P-07-0367 | 08/08/07 | 07/20/07 | (G) Fluorinated zinc dialkyldithiophosphate
P-07-0369 | 08/21/07 | 07/30/07 | (S) Definition: Extractives and thier physically modified derivatives. Populus Nigra
P-07-0369 | 08/21/07 | 07/30/07 | (S) Oils, poplar, Populus Nigra
P-07-0370 | 08/06/07 | 07/23/07 | (G) Glycol phosphite
P-07-0379 | 08/08/07 | 08/01/07 | (S) Ethanol, 2,2′,2′′-nitrilotris-, polymer with .alpha.-hydro-.omega.-hydroxypoly(oxy-1,4-butanediyl) and 1,1′-methylenebis[4-isocyanatocyclohexane], 2-hydroxyethyl acrylate-blocked
P-07-0393 | 08/06/07 | 07/28/07 | (G) Isocyanate functional polyester urethane polymer
P-07-0401 | 08/17/07 | 08/01/07 | (S) 2-propenoic acid, 2-methyl, 2-hydroxyethyl ester, homopolymer
P-07-0412 | 08/23/07 | 08/04/07 | (G) 2-propenoic acid, 2- methyl-, polymer with 2-ethylhexyl 2-propenoate, methyl 2-methyl-2-propanoate, substituted-1-propanesulfonic acid and 2-methyl-2-propenamide
P-07-0416 | 08/07/07 | 08/06/07 | (G) Aziridine homopolymer derivative
P-07-0429 | 08/08/07 | 08/06/07 | (G) Substituted propenoic acid polymer with substituted bisethanol and substituted cyclohexane
P-07-0437 | 09/04/07 | 08/26/07 | (G) Siloxanes and silicones, di-alkyl, chlorine-terminated, polymers with 2-ethylhexyl acrylate-polyoxyalkylene glycol reaction products, polyoxyalkylene glycol mono-alkyl ether-terminated
P-07-0441 | 09/04/07 | 08/27/07 | (G) Glycerides, alkyl
P-07-0443 | 09/05/07 | 08/30/07 | (G) Methacrylate copolymer with phosphinicobis methacrylate and 2-(phosphonooxy) ethyl 2-methyl-2-propenoate, sodium salt, peroxydisulfuric acid ([ho)s(o)2]2o2) diammonium salt-initiated
P-07-0469 | 09/06/07 | 08/30/07 | (G) Magnesium hydroxide surface treated

List of Subjects

Environmental protection, Chemicals, Premanufacturer notices.

Dated: September 24, 2007.
Chandler M. Sirmons,
Acting Director, Information Management Division, Office of Pollution Prevention and Toxics.

[FR Doc. E7-19543 Filed 10-2-07; 8:45 am]

BILLING CODE 6560-50-S